DEPARTMENT OF COMMERCE

National Oceanic and Atmospheric Administration

50 CFR Part 648

[Docket No. 230810-0190; RTID 0648-XD416]

Fisheries of the Northeastern United States; Northeast Multispecies Fishery; Gulf of Maine Cod Possession and Trip Limit Adjustment for the Common Pool Fishery

AGENCY: National Marine Fisheries Service (NMFS), National Oceanic and Atmospheric Administration (NOAA), Commerce.

ACTION: Temporary rule; in-season adjustment.

SUMMARY: This action decreases the possession and trip limits for Gulf of Maine (GOM) cod for Northeast multispecies common pool vessels for the remainder of the 2023 fishing year, through April 30, 2024. The National Marine Fisheries Service projects that, at its current trajectory, the common pool will exceed its 2023 sub-Annual Catch Limit for GOM cod. This decrease in the possession and trip limit for Gulf of Maine cod is intended to prevent the common pool fishery from exceeding its allocation for this stock prior to the end of the fishing year.

DATES: This action is effective October 12, 2023, through April 30, 2024.

FOR FURTHER INFORMATION CONTACT: Spencer Talmage, Fishery Policy Analyst, (978) 281-9232.

SUPPLEMENTARY INFORMATION: The regulations at § 648.86 (o) provide that NMFS may adjust the possession and trip limits for common pool vessels in order to help prevent the overharvest or underharvest of the common pool quotas. The fishing year 2023 common pool sub-annual catch limit (ACL) for Gulf of Maine GOM cod is 10.6 metric tons (mt). Catch through Trimester 1, which ended on August 31, 2023, was 8.5 mt, or 80.2 percent of the sub-ACL. As a result, as of September 1, 2023, 2.1 mt remained of the common pool sub-ACL of GOM cod. Common pool catch of GOM cod triggered a closure of the Trimester 1 Total Allowable Catch Area for the stock on July 27, 2023 (88 FR 50065), which was effective through August 31, 2023, the end of Trimester 1.

An analysis was conducted to project common pool catch from the start of Trimester 2 on September 1, 2023, through the end of the fishing year on April 30, 2024. Fishing history during this time period from fishing years 2020, 2021, and 2022 was used to estimate common pool catch under a range of different trip limit options, including the 150-pound (lb) (68-kilogram (kg)) per Day-at-Sea (DAS)/300-lb (136.1-kg) per trip limit currently in place. The resulting estimates were compared to the amount of quota remaining in the common pool sub-ACL of GOM cod on September 1, 2023.

Based on this analysis, NMFS projects that, at the current trip limit of 150 lb (68 kg) per DAS/300 lb (136.1 kg) per trip, the common pool will exceed its fishing year 2023 sub-ACL. If this occurs, regulations require that the overage must be deducted from the common pool's fishing year 2024 sub-ACL for GOM cod, which would have a negative economic impact on common pool vessels. Therefore, we are implementing a decrease to the possession and trip limits for GOM cod to help prevent the common pool fishery from exceeding its fishing year 2023 sub-ACL for GOM cod.

Effective October 12, 2023, the GOM cod possession and trip limits are decreased to 50 lb (22.7 kg) per DAS, up to 100 lb (45.4 kg) per trip, as summarized in Table 1 below.

Table 1—New Possession and Trip Limits for GOM Cod
Permit type | Current possession/trip limits | New possession/trip limits
Days-At-Sea (A DAS) | 150 lb (68 kg) per DAS, up to 300 lb (136.1 kg) per trip | 50 lb (22.7 kg) per DAS, up to 100 lb (45.4 kg) per trip.
Handgear A | 150 lb (68 kg) per trip | 50 lb (22.7 kg) per trip.
Handgear B | 25 lb (11.3 kg) per trip | Unchanged.
Small Vessel Category | 150 lb (11.3 kg) per trip, within combined 300 lb (136.1 kg) trip limit for cod, haddock, and yellowtail flounder | 50 lb (22.7 kg) per trip, within combined 300 lb (136.1 kg) trip limit for cod, haddock, and yellowtail flounder.

Since the analysis on which this action was based was conducted, additional catch has been landed. Catch data reported through September 12, 2023, showed that the common pool has now caught 8.7 mt of GOM cod, 82.5 percent of the sub-ACL, leaving 1.9 mt of catch available from that date until the sub-ACL is achieved.

Weekly quota monitoring reports for the common pool fishery are on our website at: https://www.greateratlantic.fisheries.noaa.gov/ro/fso/reports/h/nemultispecies.html. We will continue to monitor common pool catch through vessel trip reports, dealer-reported landings, Vessel Monitoring System (VMS) catch reports, and other available information and, if necessary, will make additional adjustments to common pool management measures.

Common pool groundfish vessels that have declared their trip through the VMS or the interactive voice response system, and crossed the VMS demarcation line prior to October 12, 2023, are not subject to the new possession and trip limits for that trip.

Classification

This action is authorized by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

Regulations at § 648.86 (o) provide that NMFS may adjust the Northeast multispecies possession and trip limits for common pool vessels in order to prevent the overharvest or under-harvest of the pertinent common pool quotas. We have projected that the 150-lb (68-kg) per DAS, up to 300-lb (136.1-kg) per trip limits for GOM cod will result in the common pool exceeding its fishing year 2023 sub-ACL for this stock. This action reduces these trip limits to help prevent the common pool exceeding its fishing year 2023 sub-ACL.

The time necessary to provide for prior notice and comment, and a 30-day delay in effectiveness, would prevent these reductions from being implemented in a timely manner. This action could not have taken place sooner because the catch data and analysis used as the basis for this action have only recently become available on September 21, 2023. Delays in implementation increase the probability of an overage of the common pool sub-ACL for this stock, which would undermine the conservation objectives of the Northeast Multispecies Fishery Management Plan and trigger the implementation of accountability measures that would require deduction of the overage from common pool's quota for the next fishing year. These deductions would have negative economic impacts to the common pool fishery. The regulations authorizing this action have been in effect for many years, and the fishing industry expects NMFS to take timely in-season action to prevent overages and their payback requirements.

Authority: 16 U.S.C. 1801 et seq.

Dated: October 6, 2023.
Jennifer M. Wallace,
Acting Director, Office of Sustainable Fisheries, National Marine Fisheries Service.

[FR Doc. 2023-22589 Filed 10-11-23; 8:45 am]

BILLING CODE 3510-22-P